ENVIRONMENTAL PROTECTION AGENCY

40 CFR Parts 52 and 81

[EPA-R10-OAR-2022-0124; FRL-9488-02-R10]

Air Plan Approval; OR; Oakridge PM2.5 Redesignation to Attainment and Maintenance Plan

AGENCY: Environmental Protection Agency (EPA).

ACTION: Final rule.

SUMMARY: The Environmental Protection Agency (EPA) is redesignating the Oakridge, Oregon nonattainment area to attainment for the 2006 24-hour fine particulate matter (PM2.5) National Ambient Air Quality Standard (NAAQS). The EPA is also approving a maintenance plan for the area that demonstrates continued compliance with the PM2.5 NAAQS through the year 2035, which Oregon submitted along with the redesignation request for inclusion into the Oregon State Implementation Plan (SIP). Additionally, the EPA finds adequate and is approving the PM2.5 motor vehicle emission budgets for the area. Finally, the EPA is approving additional control measures, because incorporation of these measures will strengthen the Oregon SIP and ensure PM2.5 emissions reductions in the Oakridge area. The EPA is taking these actions pursuant to the Clean Air Act (CAA or the Act).

DATES: This action is effective on September 21, 2022.

ADDRESSES: The EPA has established a docket for this action under Docket ID No. EPA-R10-OAR-2022-0124. All documents in the docket are listed on the https://www.regulations.gov website. Although listed in the index, some information is not publicly available, e.g., Confidential Business Information or other information the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Christi Duboiski (15-H13), EPA Region 10, 1200 Sixth Avenue (Suite 155), Seattle, WA 98101, at (360) 753-9081, or duboiski.christi@epa.gov.

SUPPLEMENTARY INFORMATION: Throughout this document whenever “we,” or “our” is used, it refers to the EPA.

I. Background

On January 13, 2022, Oregon submitted a request for the EPA to redesignate the Oakridge nonattainment area to attainment for the 2006 24-hour PM2.5 NAAQS under section 107(d)(3)(E) of the CAA. On May 5, 2022, the EPA proposed to determine that the Oakridge, Oregon nonattainment area met the statutory requirements for redesignation under the CAA and proposed to approve, as a revision to the Oregon SIP, the State's plan for maintaining the 2006 24-hour PM2.5 NAAQS through the year 2035 (87 FR 26710). The EPA's proposed approval was based upon the EPA's determination that the area continues to attain the 2006 24-hour PM2.5 NAAQS ¹ and that all other redesignation criteria have been met for the area. In addition, in accordance with 40 CFR 93.118(f)(2), the EPA proposed to find adequate and approve the Oakridge 2015, 2025, 2030 and 2035 PM2.5 motor vehicle emission budgets for use in transportation conformity determinations.

¹ The EPA, 2020 Air Quality System (AQS) Design Value Report, AMP480, accessed July 26, 2022. The Design Value Report excludes measurements with regionally concurred exceptional event flags.

An explanation of the CAA requirements, a detailed analysis of the submittal, and the EPA's reasons for approval were provided in the notice of proposed rulemaking and will not be restated here. The public comment period closed on June 6, 2022. We received no public comments, therefore, we are finalizing the action as proposed.

II. Final Action

The EPA is redesignating the Oakridge, Oregon PM2.5 area to attainment and we are approving the associated maintenance plan as a revision to the Oregon SIP. The designation status of the Oakridge, Oregon PM2.5 area under 40 CFR part 81 will be revised to attainment upon the effective date of this final action. We are also finding adequate and approving the PM2.5 motor vehicle emission budgets included in the Oakridge maintenance plan.

In addition, the EPA is approving and incorporating by reference into the Oregon SIP, the submitted revisions to LRAPA Title 29 to reflect the Oakridge area's revised air quality designations, updated area names, and shift from the list of nonattainment areas to the list of maintenance areas; specifically, sections 29-0010, 29-0020, 29-0030, 29-0040, 29-0050, 29-0060, 29-0070, 29-0080, 29-0090, 29-0300, 29-0310 and 29-0320 (regulations governing the designation of air quality areas in Lane County, Oregon and their legal descriptions), State effective November 18, 2021.

Finally, the EPA is approving and incorporating into the SIP the Lane County Code Chapter 9—Restriction on Use of Solid Fuel Space Heating Devices, Sections 9.120-9.140 (regulating the use of solid fuel heating devices to reduce particulate emissions and improve air quality), and the City of Oakridge Ordinance No. 920—An Ordinance Amending Section 7 of Ordinance 914 and Adopting New Standards for the Oakridge Air Pollution Control Program; Section Two (3)—Solid Fuel Burning Devices—Prohibitions (prohibiting emissions from solid-fuel heating devices with an opacity greater than 20%). Upon the effective date of this action the SIP will contain the Oakridge Ordinance No. 920, city approved October 20, 2016 (except section 6) and the Lane County Code Chapter 9, county approved February 9, 2017 (except 9.145 and 9.150). Incorporation of these measures will strengthen the Oregon SIP and ensure PM2.5 emission reductions in the Oakridge area.

We note, the EPA is taking separate and final action on the Oakridge PM10 redesignation request, and maintenance plan, which were also included in the January 13, 2022 submission.

III. Incorporation by Reference

In this document, the EPA is finalizing regulatory text that includes incorporation by reference. In accordance with the requirements of 1 CFR 51.5, we are finalizing the incorporation by reference of the LRAPA regulatory provisions described in section II of this preamble. The EPA has made, and will continue to make, these materials generally available through https://www.regulations.gov and at the EPA Region 10 Office (please contact the person identified in the FOR FURTHER INFORMATION CONTACT section of this preamble for more information). Therefore, these materials have been approved by the EPA for inclusion in the SIP, have been incorporated by reference by the EPA into that plan, are fully federally enforceable under sections 110 and 113 of the Clean Air Act as of the effective date of the EPA's approval of the final rule, and will be incorporated by reference in the next update to the SIP compilation.²

² 62 FR 27968 (May 22, 1997).

IV. Statutory and Executive Order Review

Under the Clean Air Act, the Administrator is required to approve a SIP submission that complies with the provisions of the Clean Air Act and applicable Federal regulations. 42 U.S.C. 7410(k); 40 CFR 52.02(a). Thus, in reviewing SIP submissions, the EPA's role is to approve state choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by October 21, 2022. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 81

Environmental protection, Air pollution control, National parks, Wilderness areas.

Dated: August 12, 2022.
Casey Sixkiller,
Regional Administrator, Region 10.

For the reasons set forth in the preamble, 40 CFR parts 52 and 81 are amended as follows:

PART 52—APPROVAL AND PROMULGATION OF IMPLEMENTATION PLANS

1. The authority citation for part 52 continues to read as follows:

Authority: 42 U.S.C. 7401 et seq.

Subpart MM—Oregon

2. Amend § 52.1970:

a. In paragraph (c):

i. Amend Table 3 by:

A. Revising the entry for “City of Oakridge Ordinance No. 920”; and

B. Adding an entry for “Lane County Code Chapter 9” at the end of the table; and

ii. Amend Table 4 by revising the sections entitled “Title 29—Designation of Air Quality Areas” and “Designation of Areas” and footnote 1; and

b. In paragraph (e), amend Table 5 by adding, under the undesignated heading, “Attainment and Maintenance Planning—Particulate Matter (PM2.5)” an entry for “Oakridge PM2.5 Maintenance Plan” immediately after the entry for “Updated PM2.5 Attainment Plan”.

The revisions and additions read as follows:

§ 52.1970 Identification of plan.

* * * * *

(c) * * *

Table 3—EPA Approved City and County Ordinances
Agency and ordinance | Title or subject | Date | EPA approval date | Explanations
* * * * * * *
City of Oakridge Ordinance No. 920 | An Ordinance Amending Section 7 of Ordinance 914 and Adopting New Standards for the Oakridge Air Pollution Control Program | 10/20/2016 (city approved) | 8/22/2022, [INSERT Federal Register CITATION] | Except section 6.
Lane County Code Chapter 9 | Restriction on Use of Solid Fuel Space Heating Devices | 2/09/2017 (county approved) | 8/22/2022, [INSERT Federal Register CITATION] | Except sections 9.145 and 9.150.

Table 4—EPA Approved Lane Regional Air Protection Agency (LRAPA) Rules for Lane County, Oregon ¹
LRAPA citation | Title/subject | State effective date | EPA approval date | Explanations
* * * * * * *
Title 29—Designation of Air Quality Areas
29-0010 | Definitions | 11/18/2021 | 8/22/2022, [INSERT Federal Register CITATION]
29-0020 | Designation of Air Quality Control Regions | 11/18/2021 | 8/22/2022, [INSERT Federal Register CITATION]
29-0030 | Designation of Nonattainment Areas | 11/18/2021 | 8/22/2022, [INSERT Federal Register CITATION]
29-0040 | Designation of Maintenance Areas | 11/18/2021 | 8/22/2022, [INSERT Federal Register CITATION]
29-0050 | Designation of Prevention of Significant Deterioration Areas | 11/18/2021 | 8/22/2022, [INSERT Federal Register CITATION]
29-0060 | Redesignation of Prevention of Significant Deterioration Areas | 11/18/2021 | 8/22/2022, [INSERT Federal Register CITATION]
29-0070 | Special Control Areas | 11/18/2021 | 8/22/2022, [INSERT Federal Register CITATION]
29-0080 | Motor Vehicle Inspection Boundary Designations | 11/18/2021 | 8/22/2022, [INSERT Federal Register CITATION]
29-0090 | Oxygenated Gasoline Control Areas | 11/18/2021 | 8/22/2022, [INSERT Federal Register CITATION]
Designation of Areas
29-0300 | Designation of Sustainment Areas | 11/18/2021 | 8/22/2022, [INSERT Federal Register CITATION]
29-0310 | Designation of Reattainment Areas | 11/18/2021 | 8/22/2022, [INSERT Federal Register CITATION]
29-0320 | Priority Sources | 11/18/2021 | 8/22/2022, [INSERT Federal Register CITATION]
* * * * * * *
¹ The EPA approves the requirements in Table 4 of this paragraph (c) only to the extent they apply to (1) pollutants for which NAAQS have been established (criteria pollutants) and precursors to those criteria pollutants as determined by the EPA for the applicable geographic area; and (2) any additional pollutants that are required to be regulated under Part C of Title I of the CAA, but only for the purposes of meeting or avoiding the requirements of Part C of Titles I of the CAA.

* * * * *

(e) * * *

Table 5—State of Oregon Air Quality Control Program Approved But Not Incorporated By Reference
Name of SIP provision | Applicable geographic or nonattainment area | State submittal date | EPA approval date | Explanations
* * * *
Attainment and Maintenance Planning—Particulate Matter (PM2.5)
* * * *
Oakridge PM2.5 Maintenance Plan | Oakridge-Westfir | 1/13/2022 | 8/22/2022, [INSERT Federal Register CITATION]
* * * * * * *

PART 81—DESIGNATION OF AREAS FOR AIR QUALITY PLANNING PURPOSES

3. The authority citation for part 81 continues to read as follows:

Authority: 42 U.S.C. 7401 et seq.

4. In § 81.338, amend the table entitled “Oregon—2006 24-Hour PM2.5 NAAQS” by revising the entry for “Lane County (part)” immediately after “Oakridge, OR:” to read as follows:

§ 81.338 Oregon.

* * * * *

Oregon—2006 24-Hour PM2.5 NAAQS
[Primary and secondary]
Designated area | Designation ᵃ: Date ¹ | Designation ᵃ: Type | Classification: Date ² | Classification: Type
* * * *
Oakridge, OR:
Lane County (part) | 8/22/2022 | Attainment
Boundary is defined as a line from Township 21 South, Range 2 East, Section 11 (northwest corner) east to Township 21 South, Range 3 East, Section 11 (northeast corner), south to Township 21 South, Range 3 East, Section 23 (southeast corner), west to Township 21 South, Range 2 East, Section 23 (southwest corner) connecting back to Township 21 South, Range 2 East, Section 11 (northwest corner).
* * * *
ᵃ Includes Indian Country located in each county or area, except as otherwise specified.
¹ This date is 30 days after November 13, 2009, unless otherwise noted.
² This date is July 2, 2014, unless otherwise noted.

* * * * *

[FR Doc. 2022-17867 Filed 8-19-22; 8:45 am]

BILLING CODE 6560-50-P